DEPARTMENT OF LABOR

Office of the Secretary

Submission for OMB Review: Comment Request

June 7, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: 29 CFR Part 825, The Family and Medical Leave Act of 1993.

OMB Number: 1215-0181.

Frequency: On occasion.

Type of Response: Recordkeeping and Third party disclosure.

Affected Public: Individuals or households; Business or other for-profit; Not-for-profit institutions; Farms; Federal Government; and State, local, or tribal government.

Number of Respondents: 6,657,000.

Annual Responses: 15,057,750.

Average Response Time: Varies from 1 minute to for an employee to notify an employer of the need for leave to 20 minutes for an employee to obtain a medical certification.

Total Annual Burden Hours: 1,370,103.

Total Annualized capital/startup costs: $0.

Total Annual Costs (operating/maintaining systems or purchasing services): $0.

Description: The Family and Medical Leave Act of 1993 (FMLA), Public Law 103-3, 107 Stat. 6, 29 U.S.C. 2601, requires private sector employers of 50 or more employees and public agencies to provide up to 12 weeks of unpaid, job-protected leave during any 12-month period to “eligible” employees for certain family and medical reasons. Records are required so that DOL can determine employer compliance with FMLA.

Agency: Employment Standards Administration.

Type of Review: Extension of currently approved collection.

Title: Energy Employees Occupational Illness Compensation Program Act Forms .

OMB Number: 1215-0197.

Frequency: On occasion.

Type of Response: Reporting and Recordkeeping.

Affected Public: Individuals and Business or other for-profit.

Number of Respondents: 50,019.

Form | Estimated number of annual responses | Average response time (hours) | Annual burden hours
EE-1 | 5,163 | 0.28 | 1,463
EE-2 | 7,485 | 0.35 | 2,620
EE-3 | 11,840 | 1.00 | 11,840
EE-4 | 2,960 | 0.50 | 1,480
EE-5a | 2,368 | 0.50 | 1,184
EE-7 | 11,840 | 0.25 | 2,960
EE-7a | 1,500 | 0.25 | 375
EE-8 | 1,554 | 0.08 | 130
EE-9 | 1,303 | 0.08 | 109
EE-20 | 4,006 | 0.08 | 334
Total: | 50,019 |  | 22,495

Total Annualized capital/startup costs: $0.

Total Annual Costs (operating/maintaining systems or purchasing services): $12,742.

Description: The information collected by these forms is used by DOL to determine eligibility for compensation under the Energy Employees Occupational Illness Compensation Program Act of 2000, as amended, 42 U.S.C. 7384 et seq. The information, with the medical evidence and other supporting documentation, is used to determine whether or not the claimant is entitled to compensation under the Program.

Darrin A. King,
Acting Departmental Clearance Officer.

[FR Doc. 04-13368 Filed 6-14-04; 8:45 am]

BILLING CODE 4510-CR-P